Title 3—

The President

Proclamation 7633 of December 6, 2002

National Pearl Harbor Remembrance Day, 2002

By the President of the United States of America

A Proclamation

Early on a quiet Sunday morning on December 7, 1941, aircraft of the Empire of Japan, without provocation or warning, attacked the United States forces at Pearl Harbor, Hawaii. More than 2,400 Americans died that day and another 1,100 were wounded, in what was the start of a long and terrible war against the forces of fascism, tyranny, and imperialism.

Out of that surprise attack grew a steadfast resolve to defend the freedoms on which our Nation was founded. From the ruins of Pearl Harbor, America built the strongest Navy in the world and emerged as a superpower to lead a coalition of allies to victory over evil in World War II. Our Soldiers, Sailors, Airmen, and Marines fought and won many crucial battles, defeating history's most powerful tyranny. Our Nation must always remember the heroism, dedication, and sacrifice of those who served. Their courage in battle continues to inspire us today as our Armed Forces fight against terrorism in Afghanistan and around the world.

The men and women who fought for America at Pearl Harbor not only protected our Nation, but also helped to shape its character. Nine Americans who fell had Navy ships named after them, and 15 men earned the Medal of Honor for bravery, with 10 of them awarded the Medal posthumously. As we remember the lost on what President Franklin Delano Roosevelt called “a date which will live in infamy,” I encourage our veterans to share their experiences with our youth so that new generations can learn about this important moment in our history.

Today, we salute our veterans of Pearl Harbor and World War II, whose sacrifices saved democracy during a dark hour. In their memory, a new generation of our Armed Forces goes forward against new enemies in a new era. Once again, we pledge to defend freedom, secure our homeland, and advance peace around the world. Americans have been tested before, and our Nation will triumph again.

The Congress, by Public Law 103-308, as amended, has designated December 7, 2002, as “National Pearl Harbor Remembrance Day.”

NOW, THEREFORE, I, GEORGE W. BUSH, President of the United States of America, do hereby proclaim December 7, 2002, as National Pearl Harbor Remembrance Day. I encourage all Americans to observe this solemn occasion with appropriate ceremonies and activities. I urge all Federal agencies, interested organizations, groups, and individuals to fly the flag of the United States at half-staff this and every December 7 in honor of those who died as a result of their service at Pearl Harbor.

IN WITNESS WHEREOF, I have hereunto set my hand this sixth day of December, in the year of our Lord two thousand two, and of the Independence of the United States of America the two hundred and twenty-seventh.

B

[FR Doc. 02-31380

Filed 12-10-02; 8:45 am]

Billing code 3195-01-P